GENERAL SERVICES ADMINISTRATION

41 CFR Parts 300-3, 301-2, 301-11, and 301-70

[FTR Amendment 2009-03; FTR Case 2009-303; Docket Number 2009-0001, Sequence 3]

RIN 3090-AI88

Federal Travel Regulation (FTR); FTR Case 2009-303, Furnished Meals at Conferences and Other Events

AGENCY: Office of Governmentwide Policy, General Services Administration (GSA).

ACTION: Final rule.

SUMMARY: The General Services Administration (GSA) is amending the Federal Travel Regulation (FTR) to clarify that travelers must deduct the appropriate amounts from their meals and incidental expense (M&IE) allowance when meals are part of a registration fee or otherwise paid for by the Government, in conjunction with attendance at conferences or other events while on official travel. In addition, GSA is amending the FTR to clarify that in limited instances, agencies may allow employees to claim the full M&IE allwance when employees are unable to consume meals furnished by the Government.

DATES: Effective Date: This final rule is effective April 10, 2009.

Applicability Date: This final rule is applicable for official travel performed on and after April 10, 2009.

FOR FURTHER INFORMATION CONTACT: The Regulatory Secretariat (VIR), Room 4035, GS Building, Washington, DC 20405, (202) 208-7312, for information pertaining to status or publication schedules. For clarification of content, contact Mr. Craig Flynn, Office of Governmentwide Policy, at (202) 501-0306. Please cite FTR Amendment 2009-03; FTR case 2009-303.

SUPPLEMENTARY INFORMATION:

A. Background

On March 14, 2008, the Government Accountability Office (GAO) issued a report entitled, “Governmentwide Purchase Cards: Actions Needed to Strengthen Internal Controls to Reduce Fraudulent, Improper, and Abusive Purchases.” The report recommended that GSA instruct agencies to remind Government travelers that they must reduce the M&IE claimed on their travel vouchers by the specified amount that GSA allocates when travelers receive Government-paid-for meals at conferences or other events, including continental breakfasts.

While GSA emphasizes prudent management of travel funds, it also recognizes that there are times when a traveler cannot consume a Government-furnished meal due to reasons that either transcend personal choice (such as medical requirements or religious beliefs) and the traveler is unable to make alternative meal arrangements with the conference or event coordinators or due to the conduct of official business. The requirement to deduct the appropriate amount from the travel voucher may not reasonably apply to travelers in such circumstances.

Accordingly, this final rule amends the FTR by:

1. Section 300-3.1—Adding a definition for “Furnished meal.”

2. Section 301-2.5—Adding paragraph (p) requiring specific authorization for an employee to claim the full applicable M&IE allowance due to medical requirements or religious beliefs, despite the fact that meals are furnished to the employee through registration fees or otherwise paid for by the Government.

3. Section 301-11.18—Incorporating the terms “continental breakfast” and “furnished meal” where appropriate, and clarifying under what circumstances agencies may permit employees to claim the full M&IE allowance even though meals are furnished by the Government.

4. Section 301-70.200—Adding paragraph (h) requiring agencies to designate who will determine, and in what instances, an employee may be able to claim the full M&IE allowance even though meals are furnished to the employee by the Government.

B. Executive Order 12866

This is not a significant regulatory action and, therefore, was not subject to review under Section 6(b) of Executive Order 12866, Regulatory Planning and Review, dated September 30, 1993. This final rule is not a major rule under 5 U.S.C. 804.

C. Regulatory Flexibility Act

This final rule is not required to be published in the Federal Register for notice and comment, therefore the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Parts 300-3, 301-2, 301-11, and 301-70

Glossary of terms, Government employees, Travel and transportation expenses.

Dated: February 23, 2009.
Paul F. Prouty,
Acting Administrator of General Services.

For the reasons set forth in the preamble, pursuant to 5 U.S.C. 5701-5709, GSA amends 41 CFR parts 300-3, 301-2, 301-11, and 301-70 as follows:

PART 300-3—GLOSSARY OF TERMS

1. The authority citation for 41 CFR part 300-3 is amended to read as follows:

Authority: 5 U.S.C. 5707; 40 U.S.C. 121(c); 49 U.S.C. 40118; 5 U.S.C. 5738; 5 U.S.C. 5741-5742; 20 U.S.C. 905(a); 31 U.S.C. 1353; E.O. 11609; 3 CFR, 1971-1975 Comp., p. 586, Office of Management and Budget Circular No. A-126, “Improving the Management and Use of Government Aircraft.” Revised April 28, 2006.

2. Amend § 300-3.1 by alphabetically adding the definition of “Furnished meal” to read:

§ 300-3.1 What do the following terms mean?

* * * * *

Furnished meal—A meal provided to an employee, either directly from the Government or as a result of the Government paying a registration fee or other cost which allows the employee to attend a conference or other event. If the Government has already paid for a meal, the employee must deduct the allocated amount when filing their travel voucher.

* * * * *

PART 301-2—GENERAL RULES

3. The authority citation for 41 CFR part 301-2 continues to read as follows:

Authority: 5 U.S.C. 5707; 31 U.S.C. 1353; 49 U.S.C. 40118.

4. Amend § 301-2.5 by removing “and” at the end of paragraph (n); removing the period at the end of paragraph (o) and replacing it with “; and”; and adding paragraph (p) to read as follows:

§ 301-2.5 What travel arrangements require specific authorization or prior approval?

* * * * *

(p) Due to an employee's medical requirements or religious beliefs, payment of the full M&IE allowance even though meals are furnished by the Government either directly or through a registration fee or other payment for a conference or other event, in accordance with § 301-11.18(b).

PART 301-11—PER DIEM EXPENSES

5. The authority citation for 41 CFR part 301-11 continues to read as follows:

Authority: 5 U.S.C. 5707.

6. Revise § 301-11.18 to read as follows:

§ 301-11.18 What M&IE rate will I receive if a meal(s) is furnished by the Government or is included in the registration fee?

(a) Except as provided in § 301-11.17 or in paragraph (b) of this section, your M&IE allowance must be adjusted for meals furnished to you by the Government (including meals furnished under the authority of Chapter 304 of this Title) by deducting the appropriate amount shown in the chart in this section for travel within CONUS and the chart in Appendix B of this chapter for meal deductions for OCONUS and foreign travel. The total amount of deductions made will not cause you to receive less than the amount allowed for incidental expenses.

Total M&IE | $39 | $44 | $49 | $54 | $59 | $64
Continental Breakfast/Breakfast | 7 | 8 | 9 | 10 | 1 | 12
Lunch | 11 | 12 | 13 | 15 | 16 | 18
Dinner | 18 | 21 | 24 | 26 | 29 | 31
Incidentals | 3 | 3 | 3 | 3 | 3 | 3

(b) Your agency, at its discretion, may allow you to claim the full M&IE allowance if:

(1) You are unable to consume the furnished meal(s) because of medical requirements or religious beliefs;

(2) In accordance with administrative procedures prescribed by your agency, you requested specific approval to claim the full M&IE allowance prior to your travel;

(3) In accordance with administrative procedures prescribed by your agency, you have made a reasonable effort to make alternative meal arrangements, but were unable to do so; and

(4) You purchase substitute meals in order to satisfy your medical requirements or religious beliefs.

(c) In your agency's discretion, and in accordance with administrative procedures prescribed by your agency, you may also claim the full M&IE allowance if you were unable to take part in a Government-furnished meal due to the conduct of official business.

PART 301-70—INTERNAL POLICY AND PROCEDURE REQUIREMENTS

7. The authority citation for 41 CFR part 301-70 is amended to read as follows:

Authority: 5 U.S.C. 5707; 40 U.S.C. 121(c); Sec. 2, Pub. L. 105-264, 112 Stat. 2350 (5 U.S.C. 5701 note), Office of Management and Budget Circular No. A-126, “Improving the Management and Use of Government Aircraft,” revised April 28, 2006, and OMB Circular No. A-123, Appendix B, “Improving the Management of Government Charge Card Programs,” revised April 2006.

§ 301-70.200 [Amended]

8. Amend § 301-70.200 by removing “and” at the end of paragraph (f); removing the period at the end of paragraph (g) and replacing it with “; and”; and adding paragraph (h) to read as follows:

§ 301-70.200 What governing policies must we establish for authorization and payment of per diem expenses?

* * * * *

(h) Who will determine, and in what instances, an employee will be able to claim the full M&IE allowance even though meals are furnished to the employee by the Government, in accordance with § 301-11.18(b) and § 301-11.18(c).

[FR Doc. E9-8176 Filed 4-9-09; 8:45 am]

BILLING CODE 6820-14-P